DEPARTMENT OF COMMERCE

International Trade Administration

[A-570-890]

Wooden Bedroom Furniture From the People's Republic of China: Partial Rescission of Antidumping Duty Administrative Review

AGENCY: Import Administration, International Trade Administration, Department of Commerce.

DATES: September 9, 2010.

FOR FURTHER INFORMATION CONTACT: Jeffrey Pedersen or David Edmiston, AD/CVD Operations, Office 4, Import Administration, International Trade Administration, U.S. Department of Commerce, 14th Street and Constitution Avenue, NW., Washington, DC 20230, telephone: (202) 482-2769 or (202) 482-0989, respectively.

SUPPLEMENTARY INFORMATION:

Background

On January 4, 2005, the Department of Commerce (Department) published in the Federal Register the antidumping duty order on wooden bedroom furniture from the People's Republic of China (PRC). See Notice of Amended Final Determination of Sales at Less Than Fair Value and Antidumping Duty Order: Wooden Bedroom Furniture From the People's Republic of China, 70 FR 329 (January 4, 2005). On January 11, 2010, the Department published a notice of opportunity to request an administrative review of the wooden bedroom furniture order. See Antidumping or Countervailing Duty Order, Finding, or Suspended Investigation; Opportunity To Request Administrative Review, 75 FR 1333 (January 11, 2010).

The Department received multiple timely requests for an administrative review of the wooden bedroom furniture order and on March 4, 2010, in accordance with section 751(a) of Tariff Act of 1930, as amended (the Act), published in the Federal Register a notice of the initiation of an administrative review of that order. See Initiation of Administrative Review of the Antidumping Duty Order on Wooden Bedroom Furniture From the People's Republic of China, 75 FR 9869 (March 4, 2010) (Initiation Notice). The administrative review was initiated with respect to 171 companies or groups of companies, and covers the period from January 1, 2009, through December 31, 2009.

Partial Rescission of Review

Pursuant to 19 CFR 351.213(d)(1), the Department will rescind an administrative review, in whole or in part, if the party that requested the review withdraws its request within 90 days of the date of publication of the notice of initiation of the requested review. Because all requesting parties withdrew their respective requests for an administrative review of the following entities within 90 days of the date of publication of the notice of initiation, the Department is rescinding this review with respect to these entities, in accordance with 19 CFR 351.213(d)(1):

• Alexandre International Corp., Southern Art Development Limited, Alexandre Furniture (Shenzhen) Co., Ltd., Southern Art Furniture Factory

• Art Heritage International, Ltd., Super Art Furniture Co., Ltd., Artwork Metal and Plastic Co., Ltd., Jibson Industries, Ltd., Always Loyal International

• Billy Wood Industrial (Dong Guan) Co., Ltd., Great Union Industrial (Dongguan) Co., Ltd., Time Faith Limited

• Brother Furniture Manufacture Co., Ltd.

• C.F. Kent Co., Inc.

• C.F. Kent Hospitality, Inc.

• Changshu HTC Import & Export Co., Ltd.

• Chuan Fa Furniture Factory

• Contact Co., Ltd.

• Decca Furniture Ltd.

• Denny's Furniture Associates Corp.

• Denny's International Co., Ltd.

• Der Cheng Furniture Co., Ltd.

• Der Cheng Wooden Works

• Dongguan Chunsan Wood Products Co., Ltd., Trendex Industries Ltd.

• Dongguan Golden Fortune Houseware Co., Ltd.

• Dongguan Hua Ban Furniture Co., Ltd.

• Dongguan Hung Sheng Artware Products Co., Ltd., Coronal Enterprise Co., Ltd.

• Dongguan Kingstone Furniture Co., Ltd., Kingstone Furniture Co., Ltd.

• Dongguan Lung Dong Furniture Co., Ltd., Dongguan Dong He Furniture Co., Ltd.

• DongGuan Sundart Timber Products Co., Ltd.

• Dongguan Yihaiwei Furniture Limited

• Dongying Huanghekou Furniture Industry Co., Ltd.

• Ever Spring Furniture Company Ltd., S.Y.C. Family Enterprise Co., Ltd. (Ever Spring)

• Evershine Enterprise Co.

• Fine Furniture (Shanghai) Ltd.

• Fortune Glory Industrial Ltd. (H.K. Ltd.), Tradewinds Furniture Ltd. (successor-in-interest to Nanhai Jiantai Woodwork Co., Ltd.)

• Fujian Putian Jinggong Furniture Co. Ltd.

• Fuzhou Huan Mei Furniture Co., Ltd.

• Gainwell Industries Limited

• Green River Wood (Dongguan) Ltd.

• Guangdong Gainwell Industrial Furniture Co., Ltd.

• Guangdong Yihua Timber Industry Co., Ltd.

• Guangzhou Maria Yee Furnishings Ltd., Pyla HK, Ltd., Maria Yee, Inc.

• Hang Hai Woodcraft's Art Factory

• Hong Kong Jingbi Group

• Jiangmen Kinwai Furniture Decoration Co., Ltd.

• Jiangmen Kinwai International Furniture Co., Ltd.

• Jiangsu Dare Furniture Co., Ltd.

• Jiangsu Xiangsheng Bedtime Furniture Co., Ltd.

• Jiangsu Yuexing Furniture Group Co., Ltd.

• Jiant Furniture Co., Ltd.

• Jiedong Lehouse Furniture Co., Ltd.

• King's Way Furniture Industries Co., Ltd., Kingsyear Ltd.

• Kuan Lin Furniture (Dong Guan) Co., Ltd., Kuan Lin Furniture Factory, Kuan Lin Furniture Co., Ltd.

• Kunshan Lee Wood Product Co., Ltd.

• Kunshan Summit Furniture Co., Ltd.

• Langfang Tiancheng Furniture Co., Ltd.

• Leefu Wood (Dongguan) Co. Ltd., King Rich International, Ltd.

• Locke Furniture Factory, Kai Chan Furniture Co., Ltd., Kai Chan (Hong Kong) Enterprise Limited, Taiwan Kai Chan Co., Ltd.

• Longrange Furniture Co., Ltd.

• MoonArt Furniture Group

• MoonArt International Inc.

• Nanjing Jardine Enterprise Ltd.

• Nantong Dongfang Orient Furniture Co., Ltd.

• Nantong Wangzhuang Furniture Co. Ltd.

• Nathan International Ltd., Nathan Rattan Factory

• Ningbo Fubang Furniture Industries Limited

• Ningbo Furniture Industries Company Limited a.k.a. Ningbo Furniture Industries Limited a.k.a. Ningbo Hengrun Furniture Co., Ltd.

• Ningbo Techniwood Furniture Industries Limited

• Northeast Lumber Co., Ltd.

• Passwell Corporation, Pleasant Wave Limited

• Perfect Line Furniture Co., Ltd.

• Prime Wood International Co., Ltd., Prime Best International Co., Ltd., Prime Best Factory, Liang Huang (Jiaxing) Enterprise Co., Limited

• Putian Jinggong Furniture Co., Ltd.

• Qingdao Liangmu Co., Ltd.

• Restonic (Dongguan) Furniture Ltd. Restonic Far East (Samoa) Ltd.

• Rizhao Sanmu Woodworking Co., Ltd.

• Rui Feng Woodwork Co. Ltd., Rui Feng Lumber Development Co., Ltd., Dorbest Ltd., Rui Feng Woodwork (Dongguan) Co., Ltd., Rui Feng Lumber Development (Shenzhen) Co., Ltd.

• Sen Yeong International Co. Ltd.

• Sheh Hau International Trading Ltd.

• Senyuan Furniture Group

• Shanghai Hospitality Product Mfg., Co., Ltd.

• Shanghai Jian Pu Export & Import Co., Ltd.

• Shanghai Kent Furniture Co., Ltd.

• Shanghai Maoji Imp And Exp Co., Ltd.

• Shanghai Season Industry & Commerce Co., Ltd.

• Shanghai Zhiyi (Jiashun) Furniture Co., Ltd.

• Shanghai Zhiyi Furniture and Decoration Co. Ltd.

• Shaoxing Mengxing Furniture Co., Ltd.

• Sheng Jing Wood Products (Beijing) Co., Ltd. Telstar Enterprises Ltd.

• Shenzhen Forest Furniture Co., Ltd.

• Shenzhen Jiafa High Grade Furniture Co., Ltd., Golden Lion International Trading Ltd.

• Shenzhen New Fudu Furniture Co., Ltd.

• Shenzhen Wonderful Furniture Co., Ltd.

• Shing Mark Enterprises Co., Ltd., Carven Industries Limited (BVI), Carven Industries Limited (HK), Dongguan Zhenxin Furniture Co., Ltd., Dongguan Yongpeng Furniture Co., Ltd.

• Shun Feng Furniture Co., Ltd.

• Songgang Jasonwood Furniture Factory, Jasonwood Industrial Co., Ltd. S.A.

• Starwood Furniture Manufacturing Co., Ltd.

• Starwood Industries Ltd.

• Strongson Furniture (Shenzhen) Co., Ltd., Strongson Furniture Co., Ltd., Strongson (HK) Co.

• Sundart International, Ltd.

• Sunforce Furniture (Hui-Yang) Co., Ltd., Sun Fung Wooden Factory, Sun Fung Company, Shin Feng Furniture Co., Ltd., Stupendous International Co., Ltd., (Sunforce)

• Superwood Co., Ltd., LianJian Zongyu Art Products Co. Ltd.

• Techniwood (Macao Commercial Offshore) Limited

• Techniwood Industries Ltd., Ningbo Furniture Industries Limited, Ningbo Hengrun Furniture Company Limited

• Tianjin Fortune Furniture Co., Ltd.

• Tianjin Phu Shing Woodwork Enterprise Co., Ltd.

• Tradewinds International Enterprise Ltd.

• Transworld (Zhangzhou) Furniture Co., Ltd.

• Tube-Smith Enterprise (Zhangzhou) Co., Ltd., Tube-Smith Enterprise (Haimen) Co., Ltd., Billionworth Enterprises Ltd.

• U-Rich Furniture (Zhangzhou) Co. Ltd., U-Rich Furniture Ltd.

• Wan Bao Chen Group Hong Kong Co. Ltd.

• Winny Universal, Ltd., Zhongshan Winny Furniture Ltd., Winny Overseas, Ltd.

• Woodworth Wooden Industries (Dong Guan) Co., Ltd.

• World Design International Co., Ltd.

• Xiamen Yongquan Sci-Tech Development Co., Ltd.

• Xingli Arts & Crafts Factory of Yangchun

• Yuexing Group Co., Ltd.

• Zhang Zhou Sanlong Wood Product Co., Ltd.

• Zhangjiagang Daye Hotel Furniture Co. Ltd.

• Zhangzhou Guohui Industrial & Trade Co. Ltd.

• Zhejiang Shaoxing Huaweimei Furniture Co., Ltd.

• Zhong Shan Heng Fu Furniture Co.

• Zhongshan Fengheng Furniture Co., Ltd.

• Zhongshan Fookyik Furniture Co., Ltd.

• Zhongshan Golden King Furniture Industrial Co., Ltd.

• Zhongshan Yiming Furniture Co., Ltd.

• Zhoushan For-Strong Wood Co., Ltd.

Rescission of the Fairmont Group

Dongguan Sunrise Furniture Co., Taicang Sunrise Wood Industry Co., Ltd., Shanghai Sunrise Furniture Co., Ltd., Fairmont Designs, Meizhou Sunrise Furniture Co., Ltd. (collectively, the Fairmont Group) withdrew its request for an administrative review after the 90-day deadline established by 19 CFR 351.213(d)(1). However, 19 CFR 351.213(d)(1) further states that the Secretary may extend this time limit if the Secretary finds it reasonable to do so. Although the Fairmont Group withdrew its review request after the 90-day deadline, the Department finds it reasonable to extend the deadline for parties to withdraw their request for review with respect to the Fairmont Group because the Department has not yet committed substantial resources to reviewing the Fairmont Group in the instant review and because all parties who requested the review have subsequently withdrawn their requests. Therefore, in accordance with 19 CFR 351.213(d)(1), we are rescinding this review of the antidumping duty order, with respect to the Fairmont Group.

Assessment

The Department will instruct U.S. Customs and Border Protection (CBP) to assess antidumping duties on all appropriate entries. For the companies listed above which had a separate rate granted in a previously completed segment of this proceeding that was in effect during the instant review period, antidumping duties shall be assessed on entries subject to the separate rate at rates equal to the cash deposit of estimated antidumping duties required at the time of entry, or withdrawal from warehouse, for consumption, in accordance with 19 CFR 351.212(c)(1)(i). The Department intends to issue appropriate assessment instructions for such companies directly to CBP 15 days after the publication of this notice in the Federal Register. For any of the companies listed above that do not currently have a separate rate (and thus remain a part of the PRC-wide entity), the Department will issue assessment instructions upon the completion of this administrative review. The companies from the above list for which the Department will not issue assessment instructions until the completion of the instant review are as follows:

• C.F. Kent Co., Inc.

• C.F. Kent Hospitality, Inc.

• Contact Co., Ltd.

• Denny's Furniture Associates Corp.

• Denny's International Co., Ltd.

• Der Cheng Furniture Co., Ltd.

• Der Cheng Wooden Works

• DongGuan Sundart Timber Products Co., Ltd.

• Evershine Enterprise Co.

• Fujian Putian Jinggong Furniture Co., Ltd.

• Gainwell Industries Limited

• Guangdong Gainwell Industrial Furniture Co., Ltd.

• Hong Kong Jingbi Group

• Jiant Furniture Co., Ltd.

• MoonArt Furniture Group

• MoonArt International Inc.

• Nanjing Jardine Enterprise Ltd.

• Nantong Wangzhuang Furniture Co., Ltd.

• Ningbo Fubang Furniture Industries Limited

• Ningbo Furniture Industries Company Limited a.k.a. Ningbo Furniture Industries Limited a.k.a. Ningbo Hengrun Furniture Co., Ltd.

• Ningbo Techniwood Furniture Industries Limited

• Northeast Lumber Co., Ltd.

• Senyuan Furniture Group

• Shanghai Hospitality Product Mfg., Co., Ltd.

• Shanghai Kent Furniture Co., Ltd.

• Shanghai Season Industry & Commerce Co., Ltd.

• Shanghai Zhiyi (Jiashun) Furniture Co., Ltd.

• Shanghai Zhiyi Furniture and Decoration Co., Ltd.

• Shaoxing Mengxing Furniture Co., Ltd.

• Sundart International, Ltd.

• Techniwood (Macao Commercial Offshore) Limited

• Tradewinds International Enterprise Ltd.

• World Design International Co., Ltd.

• Yuexing Group Co., Ltd.

• Zhejiang Shaoxing Huaweimei Furniture Co., Ltd.

• Zhong Shan Heng Fu Furniture Co.

• Zhongshan Fengheng Furniture Co., Ltd.

• Zhongshan Yiming Furniture Co., Ltd.

In addition, pursuant to an injunction issued in Dorbest Ltd. v. United States, CIT No. 05-0003, on June 3, 2008, the Department must continue to suspend liquidation of entries exported by Dorbest Limited., Rui Feng Woodwork (Dongguan) Co., Ltd., and Rui Feng Lumber Development (Shenzen) Co., Ltd. on or after January 1, 2008, pending a conclusive court decision.

The review will continue with respect to all other entities identified in the Initiation Notice.

Notification to Importers

This notice serves as a final reminder to importers whose entries will be liquidated as a result of this rescission notice, of their responsibility under 19 CFR 351.402(f) to file a certificate regarding the reimbursement of antidumping duties prior to liquidation of the relevant entries during this review period. Failure to comply with this requirement could result in the Secretary's assumption that reimbursement of antidumping duties occurred and subsequent assessment of double antidumping duties.

Notification Regarding Administrative Protective Orders (APOs)

This notice also serves as a reminder to parties subject to APOs of their responsibility concerning the return or destruction of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with section 777(i)(1) of the Act, and 19 CFR 351.213(d)(4).

Dated: September 12, 2010.
Edward C. Yang,
Acting Deputy Assistant Secretary for Antidumping and Countervailing Duty Operations.

[FR Doc. 2010-22480 Filed 9-8-10; 8:45 am]

BILLING CODE 3510-DS-P